SURFACE TRANSPORTATION BOARD

[Docket No. FD 36388]

Belpre Industrial Parkersburg Railroad, LLC—Lease and Operation Exemption—CSX Transportation, Inc.

Belpre Industrial Parkersburg Railroad, LLC (BIP), a noncarrier, has filed a verified notice of exemption under 49 CFR 1150.31 to lease and operate approximately 46.9 miles of rail lines and yard property owned by CSX Transportation, Inc. (CSXT). BIP proposes to lease and operate the following rail lines and property: (1) The Marietta Subdivision, which extends between Belpre, Ohio, at or near CSXT milepost BUS 0.0, and Relief, Ohio, at or near CSXT milepost BUS 38.0, a distance of approximately 38 miles; (2) the Parkersburg Running Track, which extends between Parkersburg, W. Va., at or near CSXT milepost BB 194.59, and Belpre, at or near CSXT milepost BB 189.3, a distance of approximately 5.29 miles; (3) the High Yard, located in Parkersburg at or near CSXT milepost BA 383.04, including all support, ancillary, and other tracks forming the yard; and (4) the High Yard Main Track, which extends through the High Yard, beginning at or near CSXT milepost BA 384.8, through the east end of the yard, and to the end of track, at or near CSXT milepost BA 381.19, in Parkersburg, a distance of approximately 3.61 miles. The Marietta Subdivision, Parkersburg Running Track, and High Yard Main Track are referred to collectively herein as the Lines.

BIP states that it will shortly enter into an agreement with CSXT to lease the Lines from CSXT and BIP will be the operator of the Lines.¹

¹ The parties' agreement provides for an initial term of fifteen years, subject to an automatic five-year extension if certain conditions are met.

According to BIP, the lease does not contain a provision or agreement that may limit future interchange with a third-party connecting carrier. BIP certifies that its projected revenues as a result of the transaction will not exceed those of a Class III carrier and will not exceed $5 million.

The earliest this transaction may be consummated is April 18, 2020 (30 days after the verified notice of exemption was filed).

If the verified notice contains false or misleading information, the exemption is void ab initio. Petitions to revoke the exemption under 49 U.S.C. 10502(d) may be filed at any time. The filing of a petition to revoke will not automatically stay the effectiveness of the exemption. Petitions for stay must be filed no later than April 10, 2020 (at least seven days before the exemption becomes effective).

All pleadings, referring to Docket No. FD 36388, must be filed with the Surface Transportation Board either via e-filing or in writing addressed to 395 E Street SW, Washington, DC 20423-0001. In addition, a copy of each pleading must be served on BIP's representative, David F. Rifkind, Stinson LLP, 1775 Pennsylvania Avenue NW, Suite 800, Washington, DC 20006.

According to BIP, this action is categorically excluded from environmental review under 49 CFR 1105.6(c) and from historic preservation reporting requirements under 49 CFR 1105.8(b).

Board decisions and notices are available at www.stb.gov.

Decided: March 30, 2020.
By the Board, Allison C. Davis, Director, Office of Proceedings.
Aretha Laws-Byrum,
Clearance Clerk.

[FR Doc. 2020-06978 Filed 4-2-20; 8:45 am]

BILLING CODE 4915-01-P